DEPARTMENT OF EDUCATION

Extension of the Application Deadline—Small, Rural School Achievement (SRSA) Program

AGENCY: Office of Elementary and Secondary Education, Department of Education.

ACTION: Notice.

SUMMARY: On January 24, 2020, we published in the Federal Register a notice of application deadline for the fiscal year (FY) 2020 SRSA Program application cycle (SRSA notice), Catalog of Federal Domestic Assistance (CFDA) number 84.358A. The SRSA notice established a deadline date of April 17, 2020, for the transmittal of applications. This notice extends the FY 2020 application deadline for all eligible applicants to May 15, 2020.

DATES: Deadline for Transmittal of Applications: May 15, 2020.

FOR FURTHER INFORMATION CONTACT: Mr. Robert Hitchcock, U.S. Department of Education, 400 Maryland Avenue SW, Room 3E-218, Washington, DC 20202. Telephone: (202) 260-1472. Email: reap@ed.gov.

If you use a telecommunications device for the deaf or a text telephone, call the Federal Relay Service, toll free, at 1-800-877-8339.

SUPPLEMENTARY INFORMATION: On January 24, 2020, we published the SRSA notice in the Federal Register (85 FR 4311). The SRSA notice established an application deadline of April 17, 2020, for eligible local educational agencies (LEAs) to submit applications under the SRSA program. We are extending the deadline for transmittal of applications under the SRSA notice to May 15, 2020.

We are extending this deadline to allow LEAs impacted by recent school closures and the extraordinary circumstances related to the COVID-19 pandemic additional time to submit their applications.

Note: All other information in the SRSA notice, including application submission instructions and requirements, remains the same, as described at www.federalregister.gov/documents/2020/01/24/2020-01193/application-deadline-for-fiscal-year-2020-small-rural-school-achievement-program.

Information about SRSA is available on the Department's website at www.oese.ed.gov/offices/office-of-formula-grants/rural-insular-native-achievement-programs/rural-education-achievement-program/small-rural-school-achievement-program/.

Program Authority: Sections 5211-5212 of the Elementary and Secondary Education Act of 1965, as amended, 20 U.S.C. 7345-7345a.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Frank T. Brogan,
Assistant Secretary for Elementary and Secondary Education.

[FR Doc. 2020-08193 Filed 4-17-20; 8:45 am]

BILLING CODE 4000-01-P